DEPARTMENT OF AGRICULTURE

Food Safety and Inspection Service

9 CFR Parts 307 and 381

[Docket No. FSIS-2006-0026]

Facilities for Inspection

AGENCY: Food Safety and Inspection Service, USDA.

ACTION: Notification of requirements for facilities and conditions for inspection; space for satellite dishes.

SUMMARY: The Food Safety and Inspection Service (FSIS) is publishing this notice to inform federally-inspected meat and poultry establishments that the Agency has determined that, under certain circumstances, the installation of a satellite dish on establishment premises by the Agency is essential to the efficient conduct of inspection. FSIS is also advising these establishments that, where these circumstances exist, FSIS expects that the establishments will provide space on their premises for FSIS to install a satellite dish. Because the use of information technology has become an integral part of FSIS' inspection process, FSIS has determined that inspection personnel must have reliable, high-speed Internet access to more efficiently and effectively perform their duties. The Agency intends to use satellite technology to provide high-speed Internet access to inspection personnel in approximately 2000 establishments nationwide.

DATES: Effective October 3, 2006.

FOR FURTHER INFORMATION CONTACT: Dr. Kenneth Petersen, Assistant Administrator, Office of Field Operations; Telephone (202) 720-8803, e-mail: kenneth.petersen@fsis.usda.gov.

SUPPLEMENTARY INFORMATION: As a public health regulatory agency with a geographically dispersed workforce, FSIS relies on information technology to help carry out its mission of ensuring that meat, poultry and egg products are safe, wholesome, and correctly labeled. More than 7,600 FSIS inspection personnel conduct their duties in over 6,500 meat, poultry, and egg product establishments located throughout the United States and U.S. territories. Many of these establishments are small businesses located in remote, rural areas. Thus, to enhance communication among all FSIS personnel and to assist inspection personnel to conduct their duties more efficiently, FSIS has incorporated the use of information technology into the inspection process.

As part of the inspection process, FSIS inspection personnel use information technology (IT) systems developed by the Agency to record and report information about their daily food safety, food defense, and humane handling verification activities. In addition, inspection personnel rely on Agency IT systems to track the status of product samples that they have collected as part of their verification activities and submitted to an FSIS laboratory for analysis. FSIS IT systems permit inspection personnel to electronically access and retrieve documents that contain information that they need to properly perform their inspection duties, such as FSIS regulations, directives, notices, and technical references. Agency IT systems also permit inspection personnel to participate in computer-based on-line training and allow them to obtain timely updates to inspection-related computer applications, such as the performance-based inspection system (PBIS) and electronic animal disposition reporting system (eADRS) applications.

As described above, FSIS' IT systems have been effective in assisting inspection personnel to conduct their inspection activities more efficiently. However, because access to most Agency IT systems requires that the user connect to the Internet, these systems are most effective when inspection personnel have reliable high-speed Internet access (also referred to as “broadband”). Therefore, as part of its ongoing effort to develop and upgrade its IT systems, FSIS is working to provide all of its inspection personnel with high-speed Internet access.

FSIS has made, and continues to make, progress in replacing the dial-up connections used by inspection personnel in the field with high-speed telecommunication lines. However, not all establishments are located in areas that have ready access to high-speed Internet service. Several meat and poultry establishments are located in remote, rural areas that are outside of the nearest land-based Internet provider's coverage area. For inspectors assigned to establishments in these areas, the best option for obtaining broadband access is through satellite Internet because it can be accessed regardless of where the user is located. In addition, broadband satellite is also the most appropriate option for providing high-speed Internet to inspectors in certain areas that also have access to broadband technologies other than satellite because broadband satellite has lower on-going monthly costs and a much greater coverage area.

Therefore, to ensure that all inspection personnel have access to a high-speed Internet connection, FSIS has decided to provide satellite Internet to inspection personnel assigned to approximately 2000 establishments nationwide. Close to 700 of these establishments are located in remote, rural areas that do not have access to other broadband technologies. The remaining sites are in areas that have access to other Internet technologies but where broadband satellite is the most appropriate option because of its lower cost and greater coverage.

To obtain satellite Internet service, the Agency must first install a satellite dish on the outside premises of establishments where it intends to use this technology. In circumstances where FSIS has decided to use broadband satellite technology, the Agency expects meat and poultry establishments to provide space on establishment premises for the Agency to install a satellite dish pursuant to two FSIS regulations, 9 CFR 307.1 and 9 CFR 381.36.

The regulations in 9 CFR part 307 and 9 CFR subpart G prescribe facilities that official meat and poultry establishments must provide for inspection. 9 CFR 307.1 and 9 CFR 381.36(a) of these regulations require that meat and poultry establishments provide office space rent free for government personnel to use for official purposes. These regulations also describe the conditions required for this space. The meat inspection regulations at 9 CFR 307.2 prescribe additional facilities and conditions that establishments must provide for inspection.

Under 9 CFR 307.2, FSIS may require such other facilities and conditions “as may be found to be essential to efficient conduct of inspection.” Because inspection personnel must have high-speed Internet access to efficiently perform their duties, FSIS has determined that, in circumstances where the Agency intends to use satellite technology to establish broadband Internet access, space for the Agency to install a satellite dish on the establishment premises is a condition that is essential to efficient conduct of inspection as provided in 9 CFR 307.2. 9 CFR 381.36(a) states that establishments are required to provide “[o]ffice space, including, but not being limited to, furnishings, light, heat, and janitor service”. In addition, 9 CFR 381.36(a) requires that this office space meet the approval of FSIS. Thus, under 9 CFR 381.36(a), the Agency has discretion to identify the facilities and conditions that establishments are required to furnish as part of the office space that they must provide for inspection. FSIS has determined that, in circumstances where the Agency intends to use broadband satellite to establish a high-speed Internet connection, space for FSIS to install a satellite dish on the establishment premises is a reasonable adjunct to the office space that establishments are required to provide under 9 CFR 381.36(a).

This action will not impose any costs on establishments where FSIS must install a satellite dish to establish high-speed Internet access. FSIS will pay for all equipment and installation of the satellite service. Because the satellite dish will be installed in close proximity to the government office, the establishment will not lose the use of its physical plant to any cognizable degree.

FSIS will provide notice to the specific establishments at which it intends to install a satellite dish before obtaining satellite service.

Additional Public Notification

Public awareness of all segments of rulemaking and policy development is important. Consequently, in an effort to ensure that the public and in particular minorities, women, and persons with disabilities, are aware of this notice, FSIS will announce it on-line through the FSIS Web page located at http://www.fsis.usda.gov/regulations_&_policies/2006_Notices_Index/index.asp.

The Regulations.gov Web site is the central online rulemaking portal of the United States government. It is being offered as a public service to increase participation in the Federal government's regulatory activities. FSIS participates in Regulations.gov and will accept comments on documents published on the site. The site allows visitors to search by keyword or Department or Agency for rulemakings that allow for public comment. Each entry provides a quick link to a comment form so that visitors can type in their comments and submit them to FSIS. The Web site is located at http://www.regulations.gov.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done in Washington, DC, October 3, 2006.
Barbara J. Masters,
Administrator.

[FR Doc. E6-16610 Filed 10-5-06; 8:45 am]

BILLING CODE 3410-DM-P